ENVIRONMENTAL PROTECTION AGENCY

[FRL-7099-5]

Request for Statement of Qualifications (RFQ) and Preliminary Proposals for Training and Outreach Coordination Support to the Chesapeake Bay Program

The U.S. Environmental Protection Agency (EPA) is issuing a request for qualifications for organizations interested in assisting the Chesapeake Bay Program in its efforts to develop, coordinate and support a training and event planning component of the Chesapeake Bay Program partnership. Applicants must be a nonprofit organization, interstate agency, college or university. Note, this is a request for qualifications for the benefit of the Chesapeake Bay Program partnership and not for direct benefit to EPA. Funding will be provided to an organization under the authority of the Clean Water Act, section 117.

The RFQ is available at the following web-site: http://www.epa.gov/r3chespk/. You may also request a copy by calling Robert Shewack at 410-267-9856 or by E-mail at: shewack.robert@epa.gov. Statement of qualifications (an original and five (5) copies) must be postmarked no later than December 7, 2001. Any late, incomplete or fax proposals will not be considered.

Diana Esher,
Acting Director, Chesapeake Bay Program Office.

[FR Doc. 01-27834 Filed 11-5-01; 8:45 am]

BILLING CODE 6560-50-M